DEPARTMENT OF DEFENSE

Office of the Secretary

[Transmittal Nos. 11-30]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-30 with attached transmittal and policy justification.

Dated: September 30, 2011.
Aaron Siegel,
Alternate OSD Federal Register Liaison Officer, Department of Defense.

BILLING CODE 5001-06-P

BILLING CODE 5001-06-C

Transmittal No. 11-30

Notice of Proposed Issuance of Letter of Offer Pursuant to Section 36(b)(1) of the Arms Export Control Act, As Amended

(i) Prospective Purchaser: Ecuador

(ii) Total Estimated Value:

Major Defense Equipment *—$4 million.

* As defined in Section 47(6) of the Arms Export Control Act.

Other—$56 million.

TOTAL—$60 million.

(iii) Description and Quantity or Quantities of Articles or Services under Consideration for Purchase: Refurbishment of two SH-2G Helicopters being provided as grant Excess Defense Articles (EDA) to be modified for operational use. The two EDA aircraft will also be modified to include the following: HELRAS Helicopter Dipping SONAR, AAQ-22 Forward Looking Infrared Radar (FLIR), AN/APS-143C (V) 3 RADAR, ARC-210 UHF Radio, APX-72 Transponder, AN/ARN-147 VOR/ILS, AN/ARN-149 Receiver (ADF), HF-9000 HF Radio, ASN-150 Tactical Navigation Set, spare and repair parts, support and test equipment, publications and technical documentation, personnel training and training equipment, U.S. Government and contractor engineering, technical and logistics support services, and other related elements of logistical and program support.

(iv) Military Department: Navy (SBO).

(v) Prior Related Cases, if any: None.

(vi) Sales Commission, Fee, etc., Paid, Offered, or Agreed to be Paid: None.

(vii) Sensitivity of Technology Contained in the Defense Article or Defense Services Proposed to be Sold: None.

(viii) Date Report Delivered to Congress: 27 September 2011.

Policy Justification

Ecuador—SH-2G Helicopters

The Government of Ecuador has requested a possible sale for the refurbishment of two SH-2G Helicopters being provided as grant Excess Defense Articles (EDA) to be modified for operational use. The two EDA aircraft will also be modified to include the following: HELRAS Helicopter Dipping SONAR, AAQ-22 Forward Looking Infrared Radar (FLIR), AN/APS-143C (V) 3 RADAR, ARC-210 UHF Radio, APX-72 Transponder, AN/ARN-147 VOR/ILS, AN/ARN-149 Receiver (ADF), HF-9000 HF Radio, ASN-150 Tactical Navigation Set, spare and repair parts, support and test equipment, publications and technical documentation, personnel training and training equipment, U.S. Government and contractor engineering, technical and logistics support services, and other related elements of logistical and program support. The estimated cost is $60 million.

This proposed sale will contribute to the foreign policy and national security of the United States by helping to improve the security of Ecuador which has been, and continues to be, an important force for political stability and economic progress in South America. This proposed sale will also improve the interoperability between the naval forces of the United States and Ecuador.

The proposed sale will improve Ecuador's capability to meet current and future anti-ship threats. The helicopters will perform antisubmarine warfare (ASW), antisurface warfare, search and rescue (SAR), and logistics support missions for the Ecuadorian Navy. They will improve Ecuador's ability to participate in the Maritime Multinational Operations with the U.S. Navy, will enhance Ecuador's control of its territorial sea and exclusive economic zone, and will increase the Ecuadorian Navy's SAR capabilities, further reducing Ecuador's dependency on the United States in case of emergencies. Additionally, these specialized ASW Helicopters would constitute a highly effective system to search, track, and destroy the mini-submarines used for illegal drug trafficking. Similar items have not previously been provided to Ecuador.

The proposed sale of this equipment and support will not alter the basic military balance in the region.

The prime contractor will be Kaman Corporation of Bloomfield, CT. There are no known offset agreements proposed in connection with this potential sale.

Implementation of this proposed sale will not require the assignment of any additional U.S. Government or contractor representatives to Ecuador.

There will be no adverse impact on U.S. defense readiness as a result of this proposed sale.

[FR Doc. 2011-25668 Filed 10-4-11; 8:45 am]

BILLING CODE 5001-06-P